ENVIRONMENTAL PROTECTION AGENCY

[ER-FRL-6690-1]

Environmental Impact Statements and Regulations; Availability of EPA Comments Availability of EPA Comments Prepared Pursuant to the Environmental Review Process (ERP), Under Section 309 of the Clean Air Act and Section 102(2)(c) of the National Environmental Policy Act as Amended. Requests for Copies of EPA Comments Can Be Directed to the Office of Federal Activities at 202-564-7167. An Explanation of the Ratings Assigned to Draft Environmental Impact Statements (EISs) Was Published in FR Dated April 6, 2007 (72 FR 17156)

Draft EISs

EIS No. 20070121, ERP No. D-FHW-J40176-UT, Hyde Park/North Logan Corridor Project, Proposed 200 East Transportation Corridor between North Logan City and Hyde Park, Funding, Right-of-Way Acquisitions and U.S. Army COE Section 404 Permit, Cache County, UT.

Summary: EPA expressed environmental concerns about the air impacts. EPA recommends an analysis of cumulative and multi-year construction air impacts, specifically for PM 2.5 and PM 10. EPA also requests further mitigation measures for construction emissions and diesel exhaust in close proximity to a school.

Rating EC2.

EIS No. 20070141, ERP No. D-UAF-B15000-MA, Final Recommendations and Associated Actions for the 104th Fighter Wing Massachusetts Air National Guard, Base Realignment and Closure, Implementation, Westfield-Barnes Airport, Westfield, MA.

Summary: EPA encouraged the Air National Guard to work closely with the host communities and the neighborhoods that will be impacted by noise increases from the project to specifically identify and explain the impacts and potential mitigation measures in the final EIS.

Rating EC1.

EIS No. 20070181, ERP No. D-FHW-B40098-VT, Middlebury Spur Project, Improvements to the Freight Transportation System in the Town of Middlebury in Addison County to the Town of Pittsford in Rutland County, VT.

Summary: EPA requested additional information regarding the regional air emissions analysis and recommended that measures be implemented to reduce pollution from diesel engines. EPA also requested additional information regarding wetland impacts and mitigation.

Rating EC2.

EIS No. 20070210, ERP No. D-USA-K11117-CA, Camp Parks Real Property Master Plan and Real Property Exchange, Provide Exceptional Training and Modern Facilities for Soldiers, Master Planned Development, Alameda and Contra Costa Counties, CA.

Summary: EPA expressed environmental concerns about impacts to air quality, recommended additional mitigation for air impacts, and requested additional information on impacts from increased training activities.

Rating EC2.

EIS No. 20070229, ERP No. D-AFS-H65037-00, Nebraska and South Dakota Black-Tailed Prairie Dog Management, To Mange Prairie Dog Colonies in an Adaptive Fashion, Nebraska National Forest and Associated Units, Including Land and Resource Management Plan Amendment 3, Dawes, Sioux, Blaines Counties, NE and Custer, Fall River, Jackson, Pennington, Jones, Lyman, Stanley Counties, SD.

Summary: EPA does not object to the proposed action and supports alternative 5, as the environmentally preferable alternative because of reduced rates of pesticide use and less risk to non-target species.

Rating LO.

EIS No. 20070234, ERP No. D-FHW-G40194-TX, U.S. 290 Corridor, Propose to Construct Roadway Improvements from Farm-to-Market (FM) 2920 to Interstate Highway (IH) 610, Funding and Right-of-Way Grant, Harris County, TX.

Summary: EPA does not object to the preferred alternative.

Rating LO.

EIS No. 20070256, ERP No. D-AFS-L65539-00, Umatilla National Forest Invasive Plants Treatment, Propose to Treat Invasive Plants and Restore Treated Sites, Asotin, Columbia, Garfield, Walla Walla Counties, WA and Grant, Morrow, Umatilla, Union, Wallowa, Wheeler Counties, OR.

Summary: EPA expressed environmental concerns about the proposed project due to the potential to further degrade streams that are currently 303(d) list for temperature, sediment and other water quality criteria.

Rating EC2.

Final EISs

EIS No. 20070093, ERP No. F-CGD-K03027-CA, Cabrillo Port Liquefied Natural Gas (LNG) Deepwater Port, Construction and Operation an Offshore Floating Storage and Regasification Unit (FSRU), Application for License, Ventura and Los Angeles Counties, CA.

Summary: As a result of Governor Schwarzenneger's disapproval of the project on 5/18/07, any comments EPA might have had on the final EIS are considered to be moot and were not submitted.

EIS No. 20070134, ERP No. F-FHW-D40334-VA, I-81, Corridor Improvement Study in Virginia, Transportation Improvements from the Tennessee Border to the West Virginia Border, (Tier 1), Several Counties, VA and WV.

Summary: EPA expressed environmental concerns about the impacts on the aquatic environment.

EIS No. 20070252, ERP No. F-USA-J11023-CO, Fort Carson Transformation Program, Implementation, Base Realignment and Closure Activities, Fort Carson, El Paso, Pueblo and Fremont Counties, CO.

Summary: EPA continues to have environmental concern about impacts not fully addressed by the proposed mitigation plan and recommend that the mitigation plan be strengthened.

EIS No. 20070265, ERP No. F-AFS-K65312-CA, Pilgrim Vegetation Management Project, Proposed Restoration of Forest Health and Ecosystem, Implementation, Shasta-Trinity National Forest, Siskiyou County, CA.

Summary: EPA expressed environmental concerns about the possibility of inadvertent exposure to humans and non-target species to Sporax, potential adverse effects to snag-dependent and late-successional species, and road-related resource impacts.

EIS No. 20070271, ERP No. F-AFS-F65061-WI, Fishbone Project Area, Vegetation and Road Management, Implementation, Washburn Ranger District, Chequamegon-Nicolet National Forest, Bayfield County, WI.

Summary: The Final EIS addressed EPA's previous concerns; therefore, EPA does not object to the proposed action.

EIS No. 20070279, ERP No. F-AFS-L65475-WA, White Pass Expansion Master Development Plan, Implementation, Naches Ranger District, Okanogan-Wenatchee National Forests and Cowlitz Valley Ranger District, Gifford Pinchot National Forest, Yakima and Lewis Counties, WA.

Summary: EPA continues to have environmental concerns about impacts to riparian areas and habitat connectivity. EPA recommends that additional information regarding watershed protection, mitigation measures and monitoring, and potential skier visitation be considered in decisions as the project proceeds.

EIS No. 20070280, ERP No. F-USA-D11041-VA, Fort Belvoir 2005 Base Realignment and Closure (BRAC) Recommendations and Related Army Actions, Implementation, Fairfax County, VA.

Summary: The Army adequately addressed EPA's comments within the final EIS; therefore, EPA does not object to the proposed action.

EIS No. 20070287, ERP No. F-USA-D15000-MD, Garrison Aberdeen Proving Ground, Base Realignment and Closure Actions, Realignment of Assets and Staff, Implementation, Harford and Baltimore Counties, MD.

Summary: EPA's previous concerns have been resolved; therefore, EPA does not object to the proposed action.

Dated: August 14, 2007.
Ken Mittelholtz,
Environmental Protection Specialist, Office of Federal Activities.

[FR Doc. E7-16242 Filed 8-16-07; 8:45 am

BILLING CODE 6560-50-P